DEPARTMENT OF ENERGY

Federal Energy Regulatory Commission

Notice of Staff Attendance at Southwest Power Pool Strategic Planning Committee Meeting

The Federal Energy Regulatory Commission (Commission) hereby gives notice that members of its staff may attend the meetings of the Southwest Power Pool, Inc. (SPP) Strategic Planning Committee (SPC), as noted below. Their attendance is part of the Commission's ongoing outreach efforts.

SPP SPC July 17, 2014 (8:00 a.m.-3:00 p.m.) Embassy Suites Omaha-Downtown, 555 South 10th Street, Omaha, NE. The hotel's phone number is (402) 346-9000.

The discussions may address matters at issue in the following proceedings:

Docket No. ER13-366, Southwest Power Pool, Inc.

Docket No. ER13-367, Southwest Power Pool, Inc.

Docket No. ER12-1586, Southwest Power Pool, Inc., et al.

These meetings are open to the public.

For more information, contact Jay Sher, Office of Energy Market Regulation, Federal Energy Regulatory Commission at (202) 502-8921 or jay.sher@ferc.gov.

Dated: July 11, 2014.
Kimberly D. Bose,
Secretary.

[FR Doc. 2014-17048 Filed 7-18-14; 8:45 am]

BILLING CODE 6717-01-P